DEPARTMENT OF THE TREASURY

Office of Foreign Assets Control

Additional Designation of Individuals and Entities Pursuant to Executive Order 12978

AGENCY: Office of Foreign Assets Control, Treasury.

ACTION: Notice.

SUMMARY: The Treasury Department's Office of Foreign Assets Control (“OFAC”) is publishing the names of 24 newly-designated individuals and entities whose property and interests in property are blocked pursuant to Executive Order 12978 of October 21, 1995, “Blocking Assets and Prohibiting Transactions with Significant Narcotics Traffickers.”

DATES: The designation by the Director of OFAC of the 24 individuals and entities identified in this notice pursuant to Executive Order 12978 is effective on April 15, 2008.

FOR FURTHER INFORMATION CONTACT: Assistant Director, Compliance Outreach & Implementation, Office of Foreign Assets Control, Department of the Treasury, Washington, DC 20220, tel.: 202/622-2490.

SUPPLEMENTARY INFORMATION:

Electronic and Facsimile Availability

This document and additional information concerning OFAC are available from OFAC's Web site (http://www.treas.gov/ofac) or via facsimile through a 24-hour fax-on demand service, tel.: (202) 622-0077.

Background

On October 21, 1995, the President, invoking the authority, inter alia, of the International Emergency Economic Powers Act (50 U.S.C. 1701-1706), issued Executive Order 12978 (60 Fed. Reg. 54579, October 24, 1995) (the “Order”). In the Order, the President declared a national emergency to deal with the threat posed by significant foreign narcotics traffickers centered in Colombia and the harm that they cause in the United States and abroad.

Section 1 of the Order blocks, with certain exceptions, all property and interests in property that are in the United States, or that hereafter come within the United States or that are or hereafter come within the possession or control of United States persons, of: (1) The persons listed in an Annex to the Order; (2) any foreign person determined by the Secretary of Treasury, in consultation with the Attorney General and Secretary of State, to play a significant role in international narcotics trafficking centered in Colombia; or (3) to materially assist in, or provide financial or technological support for or goods or services in support of, the narcotics trafficking activities of persons designated in or pursuant to this order; and (4) persons determined by the Secretary of the Treasury, in consultation with the Attorney General and the Secretary of State, to be owned or controlled by, or to act for or on behalf of, persons designated pursuant to this Order.

On April 15, 2008, the Director of OFAC, in consultation with the Attorney General and Secretary of State, as well as the Secretary of Homeland Security, designated 24 individuals and entities whose property and interests in property are blocked pursuant to the Order.

The list of additional designees is as follows:

1. AGROGANADERA LA ISABELA S.A., Avenida 4 No. 6N-61, Ofc. 510, Cali, Colombia; NIT # 900100335-6 (Colombia); (ENTITY) [SDNT].

2. CENTRO COMERCIAL GUSS S.A., Carrera 105 No. 14-01, Local 102, Cali, Colombia; NIT # 900105460-1 (Colombia); (ENTITY) [SDNT].

3. CONSTRUCCIONES LA RESERVA S.A., Carrera 105 No. 14-01, Local 102, Cali, Colombia; NIT # 900100336-3 (Colombia); (ENTITY) [SDNT].

4. CONSTRUCTORA JUANAMBU S.A., Carrera 105 No. 14-01, Local 102, Cali, Colombia; NIT # 900100334-9 (Colombia); (ENTITY) [SDNT].

5. CONSTRUCTORA LOMA LINDA S.A., Carrera 105 No. 14-01, Local 102, Cali, Colombia; NIT # 900100191-2 (Colombia); (ENTITY) [SDNT].

6. CONSTRUCTORA UMBRIA S.A., Carrera 105 No. 14-01, Local 102, Cali, Colombia; NIT # 900100194-4 (Colombia); (ENTITY) [SDNT].

7. FRONTERA VIRTUAL S.A., Carrera 12 No. 90-19, Piso 2, Bogota, Colombia; NIT # 830118496-9 (Colombia); (ENTITY) [SDNT].

8. INMOBILIARIA QUILICHAO S.A. (f.k.a. AGROPECUARIA B GRAND LTDA.); Avenida 4N No. 6N-61, Apt. 510, Cali, Colombia; NIT # 817002547-1 (Colombia); (ENTITY) [SDNT].

9. INVERSIONES INMOBILIARIA QUILICHAO S.A. Y CIA S.C.A. (f.k.a. RENGIFO OSPINA Y CIA S.C.S.); Avenida 4N No. 6N-61, Ofc. 510, Cali, Colombia; NIT # 8001329098 (Colombia); (ENTITY) [SDNT].

10. MIRACANA INMOBILIARIA QUILCHAO S.A. & CIA S.C.A., Avenida 4N No. 6N-61, Ofc. 510, Cali, Colombia; NIT # 805017200-1 (Colombia); (ENTITY) [SDNT].

11. RED DE SERVICIOS INMOBILIARIO PROFESIONALES S.A. (f.k.a. RED DE INMOBILIARIOS PROFESIONALES S.A.; a.k.a. “RIPSA”); Carrera 12 No. 79-32, Ofc. 703, Bogota, Colombia; NIT # 830065743-4 (Colombia); (ENTITY) [SDNT].

12. RENGIFO MANCERA & CIA S.C.A., Carrera 12 No. 79-32, Ofc. 703, Bogota, Colombia; NIT # 800138803-3 (Colombia); (ENTITY) [SDNT].

13. RENGIFO O.A.M. Y CIA S.C.A., Carrera 12 No. 79-32, Ofc. 203, Bogota, Colombia; NIT # 900110717-9 (Colombia); (ENTITY) [SDNT].

14. RUIZ DE ALARCON 12 S.L., Calle Ruiz de Alarcon, 12, Madrid 28014, Spain; V.A.T. Number ES B83031682 (Spain); (ENTITY) [SDNT].

15. VENECIA INMOBILIARIA QUILICHAO S.A. & CIA S.C.A. (f.k.a. INVERSIONES RENGIFO E HIJOS LTDA.); Avenida 4N No, 6N-61, Ofc. 510, Cali, Colombia; NIT # 800026554-3 (Colombia); (ENTITY) [SDNT].

16. CURREA CORREA, Carlos Alberto (a.k.a. “Cucu”; a.k.a. “La Llaveria”); Calle 24 No. 20-22, Tulua, Valle, Colombia; Spain; Citizen Colombia; Nationality Colombia; Cedula No. 16347900 (Colombia); (INDIVIDUAL) [SDNT].

17. RENGIFO PUENTES, Ramiro (a.k.a. TORRIJOS, William; a.k.a. “La Llaveria”); c/o RENGIFO MANCERA & CIA S.C.A., Bogota, Colombia; c/o RED DE SERVICIOS INMOBILIARIO PROFESIONALES S.A., Bogota, Colombia; c/o RUIZ DE ALARCON 12 S.L., Madrid, Spain; Calle 98 No. 9-41, Apt. 1102, Torre C, Bogota, Colombia; Calle 99 No. 10-72, Bogota, Colombia; Carrera 12 No. 90-19, Piso2, Bogota, Colombia; Madrid, Spain; DOB 18 Nov 1950; POB Cali; Citizen Colombia; Nationality Colombia; Passport AI912220 (Colombia) issued: 30 Jul 2003 exp: 30 Jul 2013; Cedula No. 19187359 (Colombia); National Foreign ID Number X3093421J (Spain); Passport AI206319 (Colombia); Passport AG589478 (Colombia); (INDIVIDUAL) [SDNT].

18. MORENO FERNANDEZ, Monica, c/o RUIZ DE ALARCON 12 S.L., Madrid, Spain; Spain; DOB 20 Apr 1963; Citizen Colombia; Nationality Colombia; Cedula No. 31903968 (Colombia); National Foreign ID Number X3881333Z (Spain); Passport AG744728 (Colombia); Passport AE613367 (Colombia); (INDIVIDUAL) [SDNT].

19. NARVAEZ PUENTES, James Orlando, c/o AGROGANADERA LA ISABELA S.A., Cali, Colombia; c/o CENTRO COMERCIAL GUSS S.A., Cali, Colombia; c/o CONSTRUCCIONES LA RESERVA S.A., Cali, Colombia; c/o CONSTRUCTORA JUANAMBU S.A., Cali, Colombia; c/o CONSTRUCTORA LOMA LINDA S.A., Cali, Colombia; c/o CONSTRUCTORA UMBRIA S.A., Cali, Colombia; c/o VENECIA INMOBILIARIA QUILICHAO S.A. & CIA S.C.A., Cali, Colombia; Carrera 66 No. 10-36, Cali, Colombia; Carrera 121 No. 13-76, Casa 7, Cali, Colombia; DOB 29 Nov 1959; Citizen Colombia; Nationality Colombia; Cedula No. 16634261 (Colombia); Passport AK279300 (Colombia) issued: 22 Jan 2007 exp: 22 Jan 2017; Passport AK279300 (Colombia); Passport AF366653 (Colombia); (INDIVIDUAL) [SDNT].

20. OSPINA PRADA, Maria del Carmen, c/o INVERSIONES INMOBILIARIA QUILICHAO S.A. Y CIA S.C.A., Cali, Colombia; c/o MIRACANA INMOBILIARIA QUILCHAO S.A. & CIA S.C.A., Cali, Colombia; Calle 98 No. 9-41, Apt. 1102, Bogota, Colombia; DOB 04 Jul 1953; POB San Luis, Tolima, Colombia; Citizen Colombia; Nationality Colombia; Cedula No. 41700627 (Colombia); Passport AH715906 (Colombia); Passport AH456850 (Colombia); (INDIVIDUAL) [SDNT].

21. RENGIFO AMAYA, Harvy Ramiro, c/o RED DE SERVICIOS INMOBILIARIO PROFESIONALES S.A., Bogota, Colombia; c/o CENTRO COMERCIAL GUSS S.A., Cali, Colombia; c/o CONSTRUCTORA UMBRIA S.A., Cali, Colombia; c/o FRONTERA VIRTUAL S.A., Bogota, Colombia; c/o INMOBILIARIA QUILICHAO S.A., Cali, Colombia; c/o MIRACANA INMOBILIARIA QUILCHAO S.A. & CIA S.C.A., Cali, Colombia; c/o VENECIA INMOBILIARIA QUILICHAO S.A. & CIA S.C.A., Cali, Colombia; DOB 02 Jan 1982; POB Colombia; Citizen Colombia; Nationality Colombia; Cedula No. 80201385 (Colombia); Passport AH406973 (Colombia); Passport AE948092 (Colombia); (INDIVIDUAL) [SDNT].

22. RENGIFO OSPINA, Edwin Amir, c/o AGROGANADERA LA ISABELA S.A., Cali, Colombia; c/o CONSTRUCCIONES LA RESERVA S.A., Cali, Colombia; c/o CONSTRUCTORA JUANAMBU S.A., Cali, Colombia; c/o CONSTRUCTORA LOMA LINDA S.A., Cali, Colombia; c/o CONSTRUCTORA UMBRIA S.A., Cali, Colombia; c/o CENTRO COMERCIAL GUSS S.A., Cali, Colombia; c/o RED DE SERVICIOS INMOBILIARIO PROFESIONALES S.A., Bogota, Colombia; c/o MIRACANA INMOBILIARIA QUILICHAO S.A. & CIA S.C.A., Cali, Colombia; c/o FRONTERA VIRTUAL S.A., Bogota, Colombia; Calle 82 No. 8-43, Apt. 201, Bogota, Colombia; DOB 20 Jun 1975; POB Bogota, Colombia; Citizen Colombia; Nationality Colombia; Cedula No. 79693032 (Colombia); Passport AI054522 (Colombia) issued: 16 May 2001 exp: 16 May 2011; Passport AF294763 (Colombia); (INDIVIDUAL) [SDNT].

23. RENGIFO OSPINA, Jefferson, c/o RED DE SERVICIOS INMOBILIARIO PROFESIONALES S.A., Bogota, Colombia; c/o MIRACANA INMOBILIARIA QUILCHAO S.A. & CIA S.C.A., Cali, Colombia; c/o CENTRO COMERCIAL GUSS S.A., Cali, Colombia; c/o FRONTERA VIRTUAL S.A., Bogota, Colombia; Calle 98 No. 9-41, Apt. 1202, Bogota, Colombia; DOB 19 Dec 1977; POB Cali, Colombia; Citizen Colombia; Nationality Colombia; Passport PO34555 (Colombia); Cedula No. 94511007 (Colombia); Passport AF237758 (Colombia); (INDIVIDUAL) [SDNT].

24. RENGIFO OSPINA, Lina Milayi, c/o FRONTERA VIRTUAL S.A., Bogota, Colombia; c/o CENTRO COMERCIAL GUSS S.A., Cali, Colombia; c/o CONSTRUCTORA UMBRIA S.A., Cali, Colombia; c/o MIRACANA INMOBILIARIA QUILCHAO S.A. & CIA S.C.A., Cali, Colombia; c/o RED DE SERVICIOS INMOBILIARIO PROFESIONALES S.A., Bogota, Colombia; DOB 22 Oct 1983; POB Bogota, Colombia; Citizen Colombia; Nationality Colombia; Cedula No. 52965678 (Colombia); Passport AI087604 (Colombia); Passport AF295127 (Colombia); (INDIVIDUAL) [SDNT].

Dated: April 15, 2008.
Barbara C. Hammerle,
Acting Director, Office of Foreign Assets Control.

[FR Doc. E8-10026 Filed 5-6-08; 8:45 am]

BILLING CODE 4811-45-P